COMMISSION ON CIVIL RIGHTS

Notice of Public Meeting of the Guam Advisory Committee to the U.S. Commission on Civil Rights

AGENCY: U.S. Commission on Civil Rights.

ACTION: Announcement of business meeting.

SUMMARY: Notice is hereby given, pursuant to the provisions of the rules and regulations of the U.S. Commission on Civil Rights (Commission) and the Federal Advisory Committee Act, that the Guam Advisory Committee (Committee) to the U.S. Commission on Civil Rights will hold a business meeting to discuss civil rights concerns on Tuesday, May 24, 2022, from 10:00 a.m.-12:00 p.m. ChST at the Dusit Beach Resort Guam in the Fort Santa Cruz room (1255 Pale San Vitores Road, Tumon, Guam 96913). This meeting will have a virtual option available via the video conferencing platform, Webex.

DATES: The meeting will take place on Tuesday, May 24, 2022, from 10:00 a.m.-12:00 p.m. ChST.

ADDRESSES: Dusit Beach Resort Guam, 1255 Pale San Vitores Road, Tumon, Guam 96913; Room: Fort Santa Cruz.

Link to Join Virtually (Audio/Visual): https://tinyurl.com/t4w2rwpu.

Telephone (Audio Only): Dial (800) 360-9505 USA Toll Free; Access Code: 2762 306 1415.

FOR FURTHER INFORMATION CONTACT: Kayla Fajota, DFO, at kfajota@usccr.gov or (434) 515-2395.

SUPPLEMENTARY INFORMATION: Any interested member of the public may attend the meeting in person or join the meeting through the conference link above. An open comment period will be provided to allow members of the public to make a statement as time allows. If joining via phone, callers can expect to incur regular charges for calls they initiate over wireless lines, according to their wireless plan. The Commission will not refund any incurred charges. Individuals who are deaf, deafblind, and hard of hearing may also follow the proceedings by first calling the Federal Relay Service at (800) 877-8339 and providing the Service with the conference details found at the web link above. To request additional accommodations, please email kfajota@usccr.gov at least ten (10) days prior to the meeting.

Members of the public are also entitled to submit written comments; the comments must be received within 30 days following the meeting. Written comments may be emailed to Liliana Schiller at lschiller@usccr.gov. Persons who desire additional information may contact the Regional Programs Coordination Unit at (312) 353-8311.

Records generated from this meeting may be inspected and reproduced at the Regional Programs Coordination Unit Office, as they become available, both before and after the meeting. Records of the meeting will be available via www.facadatabase.gov under the Commission on Civil Rights, Guam Advisory Committee link. Persons interested in the work of this Committee are directed to the Commission's website, http://www.usccr.gov, or may contact the Regional Programs Coordination Unit at the above phone number.

Agenda

I. Welcome & Roll Call

II. Introductory Remarks

III. Committee Member Introductions

IV. Overview of USCCR Advisory Committees & Project Process

V. Q&A for Commission Staff

VI. Discussion: Potential Topic Choice

VII. Public Comment

VIII. Adjournment

Dated: April 29, 2022.
David Mussatt,
Supervisory Chief, Regional Programs Unit.

[FR Doc. 2022-09586 Filed 5-4-22; 8:45 am]

BILLING CODE P